FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than May 7, 2021.

A. Federal Reserve Bank of Chicago (Colette A. Fried, Assistant Vice President) 230 South LaSalle Street, Chicago, Illinois 60690-1414:

1. Karlene M. Lindseth 2020 Chebelle Trust, Michael J. Lindseth, as trustee, both of Eden Prairie, Minnesota; to become members of the Erusha Family Control Group, a group acting in concert, to retain voting shares of Chebelle Corporation, and thereby indirectly retain voting shares of Chelsea Savings Bank, both of Belle Plaine, Iowa.

2. Richard R. Drake Family Trust, Bryan S. Drake, both of Radcliffe, Iowa, Cynthia A. Shirar, Marshalltown, Iowa, Edwin A. Drake, West Des Moines, Iowa, all as co-trustees; to join the Drake Family Control Group, a group acting in concert, to retain voting shares of Drake Holding Company, and thereby indirectly retain voting shares of Security State Bank, both of Radcliffe, Iowa.

3. Karlene M. Lindseth 2020 Solon Trust, Michael J. Lindseth, as trustee, the Michael J. Lindseth 2020 Solon Trust, Karlene M. Lindseth, as trustee, all of Eden Prairie, Minnesota; to become members of the Erusha Family Control Group, a group acting in concert, to retain voting shares of Solon Financial, Inc., and thereby indirectly retain voting shares of Solon State Bank, both of Solon, Iowa.

B. Federal Reserve Bank of St. Louis (Holly A. Rieser, Manager) P.O. Box 442, St. Louis, Missouri 63166-2034. Comments can also be sent electronically to Comments.applications@stls.frb.org:

1. Donald M. Bastian, Michael J. Bukstein, M.D., William H. Craigmiles, the Alvin E. Ehrhardt Trust, Alvin E. Ehrhardt, individually, and as trustee, Paul L. Richards, Phillip L. Smith, Gordon V. Spilker, and Carl C. Watson, all of Hannibal, Missouri; to acquire voting shares of Farmers & Merchants Bancorp, Inc., and thereby indirectly acquire voting shares of F&M Bank and Trust Company, both of Hannibal, Missouri.

C. Federal Reserve Bank of Dallas (Karen Smith, Director, Applications) 2200 North Pearl Street, Dallas, Texas 75201-2272:

1. The Paul E. McSween IV Family 2020 Trust One and the Paul E. McSween IV Family 2020 Trust Two, Paul E. McSween IV, as trustee of both trusts, the Thomas D. McSween Family 2020 Trust One and the Thomas D. McSween Family 2020 Trust Two, Thomas D. McSween, as trustee of both trusts, the Benjamin L. McSween Family 2020 Trust One and the Benjamin L. McSween Family 2020 Trust Two, Benjamin L. McSween, as trustee of both trusts, all of San Antonio, Texas; to become members of the McSween Family Control Group, a group acting in concert, to retain voting shares of Jefferson Bancshares, Inc., and thereby indirectly retain voting shares of Jefferson Bank, both of San Antonio, Texas.

Board of Governors of the Federal Reserve System, April 19, 2021.
Michele Taylor Fennell,
Deputy Associate Secretary of the Board.

[FR Doc. 2021-08380 Filed 4-21-21; 8:45 am]

BILLING CODE P